ENVIRONMENTAL PROTECTION AGENCY

[ER-FRL-9006-1]

Environmental Impacts Statements; Notice of Availability

Responsible Agency: Office of Federal Activities, General Information (202) 564-7146 or http://www.epa.gov/compliance/nepa/.

Weekly receipt of Environmental Impact Statements

Filed 11/05/2012 Through 11/09/2012

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: As of October 1, 2012, EPA will not accept paper copies or CDs of EISs for filing purposes; all submissions on or after October 1, 2012 must be made through e-NEPA.

While this system eliminates the need to submit paper or CD copies to EPA to meet filing requirements, electronic submission does not change requirements for distribution of EISs for public review and comment. To begin using e-NEPA, you must first register with EPA's electronic reporting site— https://cdx.epa.gov/epa_home.asp

EIS No. 20120361, Final EIS, BR, UT, Narrows Project, Development of a Supplemental Water Supply for Agricultural and Municipal Water Use, Sanpete County, UT, Review Period Ends: 12/17/2012, Contact: Peter Crookston 801-379-1152.

EIS No. 20120362, Draft EIS, BLM, CA, Casa Diablo IV Geothermal Development Project, Mono County, CA, Comment Period Ends: 01/15/2013, Contact: Collin Reinhardt 760-872-5024.

EIS No. 20120364, Draft EIS, BLM, WY, Gas Hills In-Situ Recovery Uranium Project, Fremont and Natrona Counties, WY, Comment Period Ends: 12/31/2012, Contact: Kristin Yannone 307-332-8400.

EIS No. 20120365, Final EIS, USACE, CA, Pier S Marine Terminal Development and Back Channel Improvements, Los Angeles County, CA, Review Period Ends: 12/17/2012, Contact: John W. Markham 805-585-2150.

Dated: November 13, 2012.
Cliff Rader,
Director, NEPA Compliance Division, Office of Federal Activities.

[FR Doc. 2012-27979 Filed 11-15-12; 8:45 am]

BILLING CODE 6560-50-P